FEDERAL TRADE COMMISSION

Sunshine Act Meeting Notice

AGENCY: Federal Trade Commission.

TIME AND DATE: 2 p.m., Wednesday, July 28, 2010.

PLACE: Federal Trade Commission Building, Room 532, 600 Pennsylvania Avenue, NW., Washington, DC 20580.

STATUS: Part of this meeting will be open to the public. The rest of the meeting will be closed to the public.

Matters To Be Considered

Portion Open to the Public

(1) Oral Argument in Polypore International, Inc., Docket 9327.

Portion Closed to the Public

(2) Executive Session to follow Oral Argument in Polypore International, Inc., Docket 9327.

CONTACT PERSON FOR MORE INFORMATION: Mitch Katz, Office of Public Affairs, (202) 326-2180. Recorded Message: (202) 326-2711.

Donald S. Clark,
Secretary.

[FR Doc. 2010-17651 Filed 7-20-10; 8:45 am]

BILLING CODE 6750-01-M